DEPARTMENT OF THE INTERIOR

Fish and Wildlife Service

Availability of a Proposed Safe Harbor Agreement for Five Species of Birds in Kauai, Maui, HI, and Honolulu Counties, HI

AGENCY: Fish and Wildlife Service, Interior.

ACTION: Receipt of application; notice of availability.

SUMMARY: The U.S. Fish and Wildlife Service (we, the Service) has received applications for enhancement of survival permits pursuant to section 10(a)(1)(A) of the Endangered Species Act of 1973, as amended (ESA), from four Resource Conservation and Development councils (RC&Ds, Applicants) in the State of Hawaii: Garden Island RC&D, Kauai County; Tri-Isle RC&D, Maui County; Big Island RC&D, Hawaii County; and Oahu RC&D, Honolulu County. The permit applications include a proposed programmatic Safe Harbor Agreement (SHA) between the Applicants and the Service. The proposed SHA provides for voluntary habitat restoration, maintenance, enhancement, or creation activities to enhance the habitat and recovery of Hawaiian goose (Branta sandvicensis), Hawaiian duck (Anas wyvilliana), Hawaiian moorhen (Gallinula chloropus sandvicensis), Hawaiian coot (Fulica alai), and Hawaiian stilt (Himantopus mexicanus knudseni) (collectively “Covered Species”) on non-Federal lands in the State of Hawaii. The proposed duration of both the SHA and permits is 50 years.

The Service believes that the proposed SHA and permit applications may be eligible for categorical exclusion under the National Environmental Policy Act of 1969 (NEPA). The basis for this is contained in a draft Environmental Action Statement, which also is available for public review.

The Service and the State of Hawaii's Department of Fish and Wildlife (DOFAW) hold concurrent processes for the review of both Federal and State permit applications and draft Safe Harbor Agreements. As part of the DOFAW process, public meetings will take place to allow for discussion and comment. Dates and locations for which DOFAW has scheduled public meetings are: December 5, 2006, Lanai High School, Lanai City; December 7, 2006, Kalanimoku Building, Room 132, Honolulu; December 12, 2006, Lihue Neighborhood Community Center, Lihue; December 13, 2006: Mitchell Pauole Community Center, Kaunakakai; December 19, 2006, Velma McWayne Santos Community Center, Wailuku; December 21, 2006, Hilo Division of Forestry and Wildlife Office, Hilo. All meetings are scheduled to begin at 7 p.m.

DATES: Written comments must be received by 5 p.m. on January 29, 2007.

ADDRESSES: Please address comments to Patrick Leonard, Field Supervisor, Pacific Islands Fish and Wildlife Office, 300 Ala Moana Boulevard, Room #3-122, Honolulu, Hawaii, facsimile number (808) 792-9580.

FOR FURTHER INFORMATION CONTACT: Jeff Newman, Fish and Wildlife Biologist, (see ADDRESSES), telephone (808) 792-9400.

SUPPLEMENTARY INFORMATION:

Document Availability

Individuals wishing copies of the permit applications, the draft Environmental Action Statement, or copies of the full text of the proposed SHA, including a map of the proposed permit areas, references, and description of the proposed permit areas, should contact the office and personnel listed in the ADDRESSES section. Documents also will be available for public inspection at the Pacific Islands Fish and Wildlife Office (see ADDRESSES), by appointment between the hours of 8 a.m. and 5 p.m.

We specifically request information, views, and opinions from the public on the proposed Federal action of issuing these permits, including the identification of any aspects of the human environment not already analyzed in our draft Environmental Action Statement. Further, we specifically solicit information regarding the adequacy of the proposed SHA as measured against our permit issuance criteria found in 50 CFR 17.22(c).

Our practice is to make comments, including names and home addresses of respondents, available for public review during regular business hours. Individual respondents may request that we withhold their identity from the administrative record. We will honor such requests to the extent allowed by law. Respondents wishing us to withhold their identity (e.g., individual name, home address and home phone number) must state this prominently at the beginning of their comments. We will make all submissions from organizations, agencies or businesses, and from individuals identifying themselves as representatives of officials of such entities, available for public inspection in their entirety.

Background

A SHA encourages private landowners to conduct voluntary conservation activities and assures them that they will not be subjected to increased listed species restrictions should their beneficial stewardship efforts result in increased numbers of listed species. Application requirements and issuance criteria for enhancement of survival permits and SHAs are found in 50 CFR 17.22(c). The primary objective of this proposed SHA is to encourage voluntary habitat restoration, maintenance or enhancement activities to benefit the Covered Species on private lands. Individual landowners who enter into the provisions of a Cooperative Agreement with Applicants are relieved from any additional ESA section 9 liability beyond that which exists at the time the Cooperative Agreement is signed and a Certificate of Inclusion is issued. As long as enrolled landowners allow the agreed-upon conservation measures to be completed on their property and agree to maintain their baseline responsibilities, they may make any other lawful use of the property during the term of the Cooperative Agreement, even if such use results in the take of individuals of the Covered Species or harm to the Covered Species' habitat above the baseline.

As proposed in the SHA, landowners on non-Federal land in the State of Hawaii, as identified by the Draft Hawaiian Goose Recovery Plan and Draft Hawaiian Waterbird Recovery Plan, may be enrolled by the Applicants under the proposed SHA. Individual landowners, as Cooperators, would receive Certificate of Inclusions when they sign Cooperative Agreements. Each Cooperative Agreement would include: (1) A map of the property with a delineation of the portion of the property to be enrolled; (2) the property's baseline described as a population estimate (Hawaiian goose) or habitat acres or miles (Hawaiian duck, Hawaiian moorhen, Hawaiian coot, Hawaiian stilt); (3) documentation of the biological surveys conducted to determine the baseline; (4) a description of the specific conservation measures to be completed; and (5) the responsibilities of the Cooperator and the Applicants.

The Applicants would provide draft copies of the Cooperative Agreements to the Service and DOFAW for an opportunity to review and concur with the recommended management activities and conservation measures. The Service and DOFAW would have a period of 30 days in which to make comments on the Cooperative Agreements. Upon address of comments from the Service and DOFAW, the Applicants would proceed to finalize the Cooperative Agreements. The Applicants, as the Permittees, would be responsible for annual monitoring and reporting related to implementation of the SHA and Cooperative Agreements and fulfillment of provisions by the Cooperators. As specified in the proposed SHA, the Applicants would issue yearly reports to the Service related to implementation of the program. As specified in the RC&D and USDA Natural Resources Conservation Service (NRCS) Memorandum of Understanding (Exhibit 1 of SHA), NRCS would assist the RC&Ds with the completion of Cooperative Agreements, monitoring, and annual reports.

Each Cooperative Agreement would cover conservation activities to create, maintain, restore, or enhance wetlands, uplands, or riparian habitat for one or more of the Covered Species and assist in achievement of the recovery goals of the species. These actions, where appropriate, could include (but are not limited to): (1) Restoration of habitat form and function; (2) installation of fences to exclude or control access by livestock and other domestic animals; (3) assessment and control of feral ungulates and introduced predators; (4) control of invasive plants and reestablishment of native plants that are beneficial to the Covered Species; (5) establishment of riparian buffers as well as facilitation of the implementation of other objectives recommended by the recovery plans for the Covered Species. The overall goal of Cooperative Agreements entered into under the proposed SHA is to produce conservation measures that are mutually beneficial to the Cooperators and the long-term existence of the Covered Species.

Based upon the probable species' response time for the Covered Species to reach a net conservation benefit, the Service estimates it will take 5 years of implementing the planned conservation measures to fully reach a net conservation benefit; some level of benefit would likely occur within a shorter time period. Cooperative Agreements under the proposed SHA would have at least 10 years' duration.

After maintenance of the restored/created/enhanced habitat for the Covered Species on the property for the agreed-upon term, Cooperators may then conduct otherwise lawful activities on their property that result in the partial or total elimination of the habitat improvements and the taking of the Covered Species. However, the restrictions on returning a property to its original baseline condition include: (1) The Cooperator must demonstrate that baseline conditions were maintained during the term of the Cooperative Agreement and the conservation measures necessary for achieving a net conservation benefit were carried out; (2) the Applicant and the Service will be notified a minimum of 60 days prior to the activity and given the opportunity to capture, rescue, and/or relocate any of the Covered Species; and (3) return to baseline conditions must be completed within the term of the Certificate of Inclusion issued to the Applicant. Cooperative Agreements could be extended if the Applicant's permit is renewed and that renewal allows for such an extension.

The Service believes that approval of the proposed SHA may qualify for a categorical exclusion under NEPA, as provided by the Department of Interior Manual (516 DM 2, Appendix 1 and 516 DM 6, Appendix 1) based on the following criteria: (1) Implementation of the SHA would result in minor or negligible effects on federally listed, proposed, and candidate species and their habitats; (2) implementation of the SHA would result in minor or negligible effects on other environmental values or resources; and (3) impacts of the SHA, considered together with the impacts of other past, present and reasonably foreseeable similarly situated projects, would not result, over time, in cumulative effects to environmental values or resources which would be considered significant. This is more fully explained in our draft Environmental Action Statement. The Service will consider public comments in making its final determination on whether to prepare such additional NEPA documentation.

Decision

The Service provides this notice pursuant to section 10(c) of the ESA and pursuant to implementing regulations for NEPA (40 CFR 1506.6).

We will evaluate the permit application, the proposed SHA, and comments submitted thereon to determine whether the application meets the requirements of section 10(a) of the ESA and NEPA regulations. If the requirements are met, we will sign the proposed SHA and issue an enhancement of survival permit under section 10(a)(1)(A) of the ESA to the Applicants for take of the Covered Species incidental to otherwise lawful activities of the project. We will not make a final decision until after the end of the 30 day comment period and will fully consider all comments received during the comment period.

Patrick Leonard,
Field Supervisor, Pacific Islands Fish and Wildlife Office, Honolulu, Hawaii.

[FR Doc. E6-22385 Filed 12-28-06; 8:45 am]

BILLING CODE 4310-55-P